FEDERAL ELECTION COMMISSION

Sunshine Act Meeting

AGENCY: Federal Election Commission.

DATE & TIME: Tuesday February 10, 2015 At 10:00 a.m. And Its Continuation On Thursday February 12, 2015 At The Conclusion Of The Open Meeting.

PLACE: 999 E Street NW., Washington, DC.

STATUS: This Meeting Will Be Closed To The Public.

ITEMS TO BE DISCUSSED: Compliance matters pursuant to 2 U.S.C. 437g.

Internal personnel rules and internal rules and practices.

Information the premature disclosure of which would be likely to have a considerable adverse effect on the implementation of a proposed Commission action.

Investigatory records compiled for law enforcement purposes or information which if written would be contained in such records.

Matters concerning participation in civil actions or proceedings or arbitration.

* * * * *

PERSON TO CONTACT FOR INFORMATION: Judith Ingram, Press Officer, Telephone: (202) 694-1220.

Shelley E. Garr,
Deputy Secretary of the Commission.

[FR Doc. 2015-02436 Filed 2-3-15; 4:15 pm]

BILLING CODE 6715-01-P